DEPARTMENT OF TRANSPORTATION

Federal Aviation Administration

14 CFR Part 71

[Docket No. FAA-2022-1436; Airspace Docket No. 22-ACE-13]

RIN 2120-AA66

Amendment of VOR Federal Airways V-50, V-52, V-63, and V-586, and Revocation of V-582 in the Vicinity of Quincy, IL

AGENCY: Federal Aviation Administration (FAA), DOT.

ACTION: Final rule.

SUMMARY: This action amends Very High Frequency (VHF) Omnidirectional Range (VOR) Federal airways V-50,

V-52, V-63, and V-586, and revokes VOR Federal airway V-582. The FAA is taking this action due to the planned decommissioning of the VOR portion of the Quincy, IL (UIN), VOR/Tactical Air Navigation (VORTAC) navigational aid (NAVAID). The Quincy VOR is being decommissioned in support of the FAA's VOR Minimum Operational Network (MON) program.

DATES: Effective date 0901 UTC, June 15, 2023. The Director of the Federal Register approves this incorporation by reference action under 1 CFR part 51, subject to the annual revision of FAA Order JO 7400.11 and publication of conforming amendments.

ADDRESSES: A copy of the NPRM, all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the ATS route structure as necessary to preserve the safe and efficient flow of air traffic within the National Airspace System.

History

The FAA published a notice of proposed rulemaking for Docket No. FAA-2022-1436 in the Federal Register (87 FR 80095; December 29, 2022), amending VOR Federal airways V-50, V-52, V-63, and V-586, and revoking VOR Federal airway V-582 due to the planned decommissioning of the VOR portion of the Quincy, IL, VORTAC NAVAID. Interested parties were invited to participate in this rulemaking effort by submitting written comments on the proposal. No comments were received.

Differences From the NPRM

In the NPRM, the FAA erroneously stated that, although the VOR portion of the Quincy, IL, VORTAC was planned for decommissioning, the co-located Distance Measuring Equipment (DME) would be retained. Instead, the co-located Tactical Air Navigation (TACAN) is being retained to provide navigational service for military operations and DME service in support of current and future Next Generation Air Transportation System Performance Based Navigation procedures. This does not affect the changes to the airways in this rule.

Incorporation by Reference

VOR Federal airways are published in paragraph 6010(a) of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending VOR Federal airways V-50, V-52, V-63, and V-586, and revoking VOR Federal airway V-582 due to the planned decommissioning of the VOR portion of the Quincy, IL, VORTAC. The airway actions are described below.

V-50: V-50 extends between the St Joseph, MO, VORTAC and the Dayton, OH, VOR/Distance Measuring Equipment (VOR/DME). The airway segment overlying the Quincy VORTAC between the Kirksville, MO, VORTAC and the Spinner, IL, VORTAC is removed. As amended, the airway extends between the St Joseph VORTAC and the Kirksville VORTAC and between the Spinner VORTAC and the Dayton VOR/DME.

V-52: V-52 extends between the Des Moines, IA, VORTAC and the Pocket City, IN, VORTAC. The airway segment overlying the Quincy VORTAC between the Ottumwa, IA, VOR/DME and the St Louis, MO, VORTAC is removed. As amended, the airway extends between the Des Moines VORTAC and the Ottumwa VOR/DME and between the St Louis VORTAC and the Pocket City VORTAC.

V-63: V-63 extends between the Razorback, AR, VORTAC and the Davenport, IA, VORTAC; between the Janesville, WI, VOR/DME and the Oshkosh, WI, VORTAC; and between the Rhinelander, WI, VOR/DME and the Houghton, MI, VOR/DME. The airspace at and above 10,000 feet mean sea level (MSL) from 5 nautical miles (NM) north to 46 NM north of Quincy, IL, is excluded when the Howard West Military Operations Area (MOA) is active. The airway segment overlying the Quincy VORTAC between the Hallsville, MO, VORTAC and the Burlington, IL, VOR/DME is removed. The airspace exclusion language addressing the Howard West MOA activations is also removed as the amended airway no longer overlaps the Howard West MOA. As amended, the airway extends between the Razorback VORTAC and the Hallsville VORTAC, between the Burlington VOR/DME and the Davenport VORTAC, between the Janesville VOR/DME and the Oshkosh VORTAC, and between the Rhinelander VOR/DME and the Houghton VOR/DME.

V-582: V-582 extends between the St. Louis, MO, VORTAC and the Quincy, IL, VORTAC. The airway is removed in its entirety.

V-586: V-586 extends between the Quincy, IL, VORTAC and the Joliet, IL, VOR/DME. The airway segment overlying the Quincy VORTAC between the Quincy, IL, VORTAC and the Peoria, IL, VORTAC is removed. As amended, the airway extends between the Peoria VORTAC and the Joliet VOR/DME.

The NAVAID radials listed in the VOR Federal airway V-52 description below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-50, V-52, V-63, and V-586, and revoking VOR Federal airway V-582, due to the planned decommissioning of the VOR portion of the Quincy, IL, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal airways.

* * * * *

V-50 [Amended]

From St Joseph, MO; to Kirksville, MO. From Spinner, IL; Adders, IL; Terre Haute, IN; Brickyard, IN; to Dayton, OH.

* * * * *

V-52 [Amended]

From Des Moines, IA; to Ottumwa, IA. From St Louis, MO; Troy, IL; INT Troy 099° and Pocket City, IN, 311° radials; to Pocket City.

* * * * *

V-63 [Amended]

From Razorback, AR; Springfield, MO; to Hallsville, MO. From Burlington, IA; Moline, IL; to Davenport, IA. From Janesville, WI; Badger, WI; to Oshkosh, WI. From Rhinelander, WI; to Houghton, MI.

* * * * *

V-582 [Removed]

* * * * *

V-586 [Amended]

From Peoria, IL; Pontiac, IL; to Joliet, IL.

* * * * *

Issued in Washington, DC, on March 20, 2023.
Brian Konie,
Acting Manager, Airspace Rules and Regulations.

[FR Doc. 2023-06103 Filed 3-24-23; 8:45 am]

BILLING CODE 4910-13-P